DEPARTMENT OF AGRICULTURE

Animal and Plant Health Inspection Service

[Docket No. APHIS-2020-0021]

Bayer; Notice of Intent To Prepare an Environmental Impact Statement for Determination of Nonregulated Status for Maize Developed Using Genetic Engineering for Dicamba, Glufosinate, Quizalofop, and 2,4-Dichlorophenoxyacetic Acid Resistance, With Tissue-Specific Glyphosate Resistance Facilitating the Production of Hybrid Maize Seed; Reopening of Comment Period

AGENCY: Animal and Plant Health Inspection Service, USDA.

ACTION: Notice of intent to prepare an environmental impact statement; reopening of comment period.

SUMMARY: We are reopening the comment period for our notice of intent to prepare an environmental impact statement regarding a request from Bayer seeking a determination of nonregulated status for maize developed using genetic engineering for dicamba, glufosinate, quizalofop, and 2,4-dichlorophenoxyacetic acid resistance with tissue-specific glyphosate resistance facilitating the production of hybrid maize seed. This action will allow interested persons additional time to prepare and submit comments.

DATES: The comment period for the notice of intent published on April 28, 2021 (86 FR 22384) is reopened. We will consider all comments that we receive on or before July 30, 2021.

ADDRESSES: You may submit comments by either of the following methods:

• Federal eRulemaking Portal: Go to http://www.regulations.gov and enter APHIS-2020-0021 in the Search field. Select the Documents tab, then select the Comment button in the list of documents.

• Postal Mail/Commercial Delivery: Send your comment to Docket No. APHIS-2020-0021, Regulatory Analysis and Development, PPD, APHIS, Station 3A-03.8, 4700 River Road, Unit 118, Riverdale, MD 20737-1238.

The petition and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Cindy Eck, Biotechnology Regulatory Services, APHIS, 4700 River Road, Unit 147, Riverdale, MD 20737-1236; phone (301)851-3892; email: cynthia.a.eck@usda.gov.

SUPPLEMENTARY INFORMATION: On April 28, 2021, we published in the Federal Register (86 FR 22384-22386, Docket No. APHIS-2020-0021) ¹ a notice of intent to prepare an environmental impact statement regarding a request from Bayer seeking a determination of nonregulated status for maize developed using genetic engineering for dicamba, glufosinate, quizalofop, and 2,4-dichlorophenoxyacetic acid resistance with tissue-specific glyphosate resistance facilitating the production of hybrid maize seed.

¹ To view the notice, go to www.regulations.gov. Enter APHIS-2020-0021 in the Search field.

Comments on the notice of intent were required to be received on or before May 28, 2021. We are reopening the comment period on Docket No. APHIS-2020-0021 for an additional 30 days from the date of publication of this notice. This action will allow interested persons additional time to prepare and submit comments. We will also consider all comments received between May 29, 2021 (the day after the close of the original comment period) and the date of this notice.

Done in Washington, DC, this 24th day of June 2021.
Michael Watson,
Acting Administrator, Animal and Plant Health Inspection Service.

[FR Doc. 2021-13904 Filed 6-29-21; 8:45 am]

BILLING CODE 3410-34-P